DEPARTMENT OF DEFENSE

Department of the Army

Draft Environmental Impact Statement (EIS) for the Implementation of Energy, Water, and Solid Waste Sustainability Initiatives at Fort Bliss, Texas and New Mexico

AGENCY: Department of the Army, DoD.

ACTION: Notice of Availability.

SUMMARY: The Department of the Army proposes to implement Net Zero energy, water and waste initiatives by 2020 at Fort Bliss to meet mandates for renewable energy production and greenhouse gas emissions reductions. In doing so, the Army will increase Fort Bliss' energy and water security, supporting the military mission into the future. Fort Bliss would not lose any training capability as a result of Net Zero project implementation. The Proposed Action consists of multiple, related, and interconnected projects to achieve Net Zero goals, comply with federal and Army energy mandates, and meet the Army's energy and water security objectives.

The Army's proposed energy, water, and waste initiatives that could reasonably be expected to move forward in the next three to eight years consist of implementation of conservation policies and procedures (Alternative 2); construction of a water reclamation pipeline (Alternative 3); construction and operation of a waste-to-energy plant (Alternative 4); construction and operation of a geothermal energy facility (Alternative 5); and, construction of dry-cooled concentrating solar power technology (Alternative 6). Alternative 7 proposes implementation of other renewable energy technologies and projects that are compatible with installation planning criteria and address potential future renewable energy, water, and waste technology actions at a programmatic level. If implemented, Alternative 7 actions may require further National Environmental Policy Act analysis. The Proposed Action initiatives (Alternatives 2 through 7) would work to enhance the overall sustainability and security of Fort Bliss.

DATES: The public comment period will end 45 days after publication of the notice of availability in the Federal Register by the U.S. Environmental Protection Agency.

ADDRESSES: Written comments should be addressed to Dr. John Kipp, Fort Bliss Directorate of Public Works, Attention: IMBL-PWE (Kipp), Building 624 Pleasonton Road, Fort Bliss, Texas 79916; email: john.m.kipp6.civ@mail.mil; fax: (915) 568-3548.

FOR FURTHER INFORMATION CONTACT: Please contact Ms. Donita Kelley, Fort Bliss Public Affairs Office, Attention: IMBL-PA (Kelley), Building 15 Slater Road, Fort Bliss, Texas 79916; phone: (915) 568-4505; email: donita.k.schexnaydre.civ@mail.mil.

SUPPLEMENTARY INFORMATION: The Army examined the potential environmental impacts from implementing multiple, related, and interconnected proposed projects that could be taken to implement Net Zero energy, water, and waste initiatives, comply with federal and Army energy mandates, and meet the Army's energy and water security objectives. Not all projects discussed in the Draft EIS would be implemented to the full extent discussed in the document. Technological advancements, legislative changes, and other factors may result in revisions to the proposed projects discussed in the alternatives section.

The proposed projects consist of six action alternatives (Proposed Action, Alternatives 2 through 7). The Draft EIS also analyzes the potential environmental impacts of the No Action Alternative (Alternative 1) and the cumulative impacts of the Proposed Action in combination with other past, present, and reasonably foreseeable future actions.

Potentially significant impacts discussed for the Proposed Action include possible effects to air quality, vegetation, archeological sites, soils, land use, and traffic. Of these, all but land use (as a result of converting training land to developed land) are anticipated to be mitigable to less than significant. Air quality also has potentially beneficial impacts discussed for the Proposed Action, as does energy demand and generation, socioeconomics, water supply sources, water demand, and wastewater reuse. To determine the extent of impacts to biological and cultural resources, the Army is consulting with the U.S. Fish and Wildlife Service, Texas and New Mexico State Historic Preservation Offices, Tribes, and other consulting parties.

Cooperating Agencies: The US Air Force (Holloman Air Force Base [AFB]) is a cooperating agency on the Draft EIS. Some of the proposed projects considered in the alternatives evaluated could affect Holloman AFB units that use Fort Bliss ranges and airspace for training operations.

Public Meetings and Public Comments: Public meetings on the Draft EIS will be held in Alamogordo, New Mexico, and El Paso, Texas. Notifications of the times and locations for the public meetings will be published in local newspapers and the environmental link on the Fort Bliss Web site https://www.bliss.army.mil/DPW/Environmental/EISDocuments2.html.

Native Americans, federal, state, and local agencies, organizations, and the public are invited to be involved in the process for the preparation of this EIS by participating in public meetings and/or submitting written comments on the Draft EIS to the above address by the end of the 45-day public comment period.

Copies of the Draft EIS are available at the following libraries: Alamogordo Public Library, El Paso Main Library, Irving Schwartz Branch Library, New Mexico State University Zuhl Library, Richard Burges Branch Library, Thomas Branigan Memorial Library, and University of Texas at El Paso Library. The Draft EIS may also be accessed at http://ftblissnetzeroeis.net/index.html or https://www.bliss.army.mil/DPW/Environmental/EISDocuments2.html.

Brenda S. Bowen,
Army Federal Register Liaison Officer.

[FR Doc. 2013-11732 Filed 5-16-13; 8:45 am]

BILLING CODE 3710-08-P